DEPARTMENT OF ENERGY

Federal Energy Regulatory Commission

[Docket No. RP05-14-001]

Transwestern Pipeline Company, LLC; Notice of Correction

November 23, 2004.

Take notice that on November 16, 2004, Transwestern Pipeline Company, LLC (Transwestern) notified the Commission that the effective date of its conversion from a corporation to a limited liability company and its name change from Transwestern Pipeline Company to Transwestern Pipeline Company, LLC is November 16, 2004. Transwestern explains that, in its filing dated October 1, 2004 in Docket No. RP05-14-000, in the event the proposed conversion and name change were not completed by November 1, 2004, Transwestern would advise the Commission of the correct effective date to coincide with the actual date of conversion. Transwestern states that this letter serves as such notification that the effective date of Transwestern's Tariff, Third Revised Volume No. 1, is November 16, 2004.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3398 Filed 11-30-04; 8:45 am]

BILLING CODE 6717-01-P